DEPARTMENT OF HOUSING AND URBAN DEVELOPMENT

[Docket No. FR-5374-N-01]

Buy American Exceptions Under the American Recovery and Reinvestment Act of 2009

AGENCY: Office of the Assistant Secretary for Public and Indian Housing, HUD.

ACTION: Notice.

SUMMARY: In accordance with the American Recovery and Reinvestment Act of 2009 (Pub. L. 111-05, approved February 17, 2009) (Recovery Act), and implementing guidance of the Office of Management and Budget (OMB), this notice advises that certain national exceptions to the Buy American requirement of the Recovery Act have been determined applicable for work using Capital Fund Recovery Formula and Competition (CFRFC) grant funds. Specifically, exceptions were granted to the Bay City, Michigan Housing Commission for the purchase and installation of tank-less water heaters in the Scattered Site Plumbing and Mechanical Project, and to the Housing Authority of Portland, Oregon's purchase of all iron, steel, and manufactured goods involved in the construction of the Resource Access Center.

FOR FURTHER INFORMATION CONTACT: Dominique G. Blom, Deputy Assistant Secretary for Public Housing Investments, Office of Public Housing Investments, Office of Public and Indian Housing, Department of Housing and Urban Development, 451 7th Street, SW., Room 4210, Washington, DC, 20410-4000, telephone number 202-402-8500 (this is not a toll-free number). Persons with hearing- or speech-impairments may access this number through TTY by calling the toll-free Federal Information Relay Service at 800-877-8339.

SUPPLEMENTARY INFORMATION: Section 1605(a) of the Recovery Act imposes a “Buy American” requirement on Recovery Act funds used for a project for the construction, alteration, maintenance, or repair of a public building or public work unless all of the iron, steel, and manufactured goods used in the project are produced in the United States. Section 1605(b) provides that the Buy American requirement shall not apply in any case or category in which the head of a Federal department or agency finds that: (1) Applying the Buy American requirement would be inconsistent with the public interest; (2) iron, steel, and the relevant manufactured goods are not produced in the U.S. in sufficient and reasonably available quantities or of satisfactory quality, or (3) inclusion of iron, steel, and manufactured goods will increase the cost of the overall project by more than 25 percent. Section 1605(c) provides that if the head of a Federal department or agency makes a determination pursuant to section 1605(b), the head of the department or agency shall publish a detailed written justification in the Federal Register.

In accordance with section 1605(c) of the Recovery Act and OMB's implementing guidance published on April 23, 2009 (74 FR 18449), this notice advises the public that, on December, 2, 2009, HUD granted the following two exceptions to the Buy American requirement:

1. Bay City, Michigan Housing Commission. Upon request of the Bay City Housing Commission, HUD granted an exception to applicability of the Buy American requirements with respect to work, using CFRFC grant funds, in connection with the Scattered Site Plumbing and Mechanical Project. The exception was granted by HUD on the basis that the iron, steel, or relevant manufactured goods are not produced in the U.S. in sufficient and reasonably available quantities or of satisfactory quality.

2. Housing Authority of Portland Oregon. Upon request of the Housing Authority of Portland, HUD granted an exception to applicability of the Buy American requirements with respect to work, using CFRFC grant funds, in connection with the Resource Access Center. The exception was granted by HUD on the basis that applicability of the Recovery Act Buy American requirements would be inconsistent with the public interest.

Dated: December 14, 2009.
Sandra B. Henriquez,
Assistant Secretary for Public And Indian Housing.

[FR Doc. E9-30132 Filed 12-15-09; 4:15 pm]

BILLING CODE 4210-67-P